FEDERAL COMMUNICATIONS COMMISSION

47 CFR Part 73

[DA No. 01-683; MM Docket No. 01-67, RM-10084]

Radio Broadcasting Services; Abingdon and Canton, IL

AGENCY: Federal Communications Commission.

ACTION: Proposed rule.

SUMMARY: This document requests comments on a petition filed by Abingdon Broadcasters proposing the allotment of Channel 252A at Abingdon, Illinois, as that community's first local FM service. The coordinates for Channel 252A at Abingdon are 40-42-28 and 90-19-47. There is a site restriction 12.3 kilometers (7.7 miles) southeast of the community. To accommodate Channel 252A at Abingdon, we shall also propose the substitution of Channel 277A for vacant Channel 252A at Canton, Illinois. The coordinates for Channel 277A at Canton are 40-28-27 and 90-03-01. There is a site restriction 9.4 kilometers (5.8 miles) south of the community.

DATES: Comments must be filed on or before May 7, 2001, and reply comments on or before May 22, 2001.

ADDRESSES: Federal Communications Commission, 445 Twelfth Street, SW., Washington, DC 20554. In addition to filing comments with the FCC, interested parties should serve the petitioner's counsel, as follows: John F. Garziglia, Pepper & Corazzini, LLP, 1776 K Street, NW., Suite 200, Washington, DC 20006.

FOR FURTHER INFORMATION CONTACT: Kathleen Scheuerle, Mass Media Bureau, (202) 418-2180.

SUPPLEMENTARY INFORMATION: This is a summary of the Commission's Notice of Proposed Rule Making, MM Docket No. 01-67, adopted March 7, 2001, and released March 16, 2001. The full text of this Commission decision is available for inspection and copying during normal business hours in the Commission's Reference Information Center, 445 Twelfth Street, SW., Washington, DC 20554. The complete text of this decision may also be purchased from the Commission's copy contractors, International Transcription Services, Inc., 1231 20th Street, NW., Washington, DC 20036, (202) 857-3800, facsimile (202) 857-3805.

Provisions of the Regulatory Flexibility Act of l980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contact.

For information regarding proper filing procedures for comments, see 47 CFR 1.415 and 1.420.

List of Subjects in 47 CFR Part 73

Radio broadcasting.

For the reasons discussed in the preamble, the Federal Communications Commission proposes to amend 47 CFR part 73 as follows:

PART 73—RADIO BROADCAST SERVICES

1. The authority citation for part 73 continues to read as follows:

Authority: 47 U.S.C. 154, 303, 334 and 336.

§ 73.202 [Amended]

2. Section 73.202(b), the Table of FM Allotments under Illinois, is amended by adding Abingdon, Channel 252A, and by removing Channel 252A and adding Channel 277A at Canton.

Federal Communications Commission.
John A. Karousos,
Chief, Allocations Branch, Policy and Rules Division, Mass Media Bureau.

[FR Doc. 01-7611 Filed 3-27-01; 8:45 am]

BILLING CODE 6712-01-P